DEPARTMENT OF TRANSPORTATION

Federal Aviation Administration

14 CFR Part 71

[Docket No. FAA-2021-0152; Airspace Docket No. 21-AGL-2]

RIN 2120-AA66

Amendment of J-107, J-515, and V-181; Establishment of T-407; and Revocation of the Humboldt, MN, Domestic Low Altitude Reporting Point; Northcentral United States

AGENCY: Federal Aviation Administration (FAA), DOT.

ACTION: Final rule.

SUMMARY: This action amends Jet Routes J-107 and J-515, and VHF Omnidirectional Range (VOR) Federal Airway V-181; establishes low altitude Area Navigation (RNAV) route, T-407; and revokes the Humboldt, MN, Domestic Low Altitude Reporting Point, in the northcentral United States. This action is necessary due to the planned decommissioning of the VOR portion of the Humboldt, MN, VOR/Tactical Air Navigation (VORTAC). The Humboldt VOR, which provides navigation guidance to portions of the affected Air Traffic Service (ATS) routes, is being decommissioned as part of the FAA's VOR Minimum Operational Network (VOR MON) program.

DATES: Effective date 0901 UTC, December 2, 2021. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order JO 7400.11F at NARA, email: fr.inspection@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure as necessary to preserve the safe and efficient flow of air traffic within the National Airspace System.

History

The FAA published a notice of proposed rulemaking for Docket No. FAA-2020-0152, in the Federal Register (86 FR 13668; March 10, 2021), amending J-107, J-515, and V-181; establishing T-407; and revoking the Humboldt reporting point. The proposed amendment, establishment, and revocation actions were due to the planned decommissioning of the VOR portion of the Humboldt, MN, VORTAC navigational aid. Interested parties were invited to participate in this rulemaking effort by submitting written comments on the proposal. Two comments were received, but were determined to be not substantive to this proposal.

United States Jet Routes, VOR Federal airways, RNAV T-routes, and Domestic Low Altitude Reporting points are published in paragraphs 2004, 6010(a), 6011, and 7001, respectively, of FAA Order JO 7400.11F, dated August 10, 2021, and effective September 15, 2021, which are incorporated by reference in 14 CFR 71.1. The ATS routes listed in this document will be published subsequently in the Order.

Differences From NPRM

In the NPRM published for Docket No. FAA-2020-0152, the FAA Order JO 7400.11F paragraph number identified for VOR Federal Airways in the regulatory text section listed “2010(a)” in error. The correct paragraph number for VOR Federal Airways in the Order is “6010(a)” and is corrected in this rule.

Additionally, the published NPRM mistakenly identified the ZOMTA fix in the RNAV route T-407 in the regulatory text section with the incorrect state of North Dakota (ND). The correct state is Minnesota (MN). This rule corrects this editorial error. Further, the existing ZOMTA fix, which is associated with the V-181 segment being removed in this rule, is being redefined in the FAA's aeronautical database as the ZOMTA waypoint (WP) at the same location. This “fix” to “WP” change is also reflected in the T-407 route description in this rule.

Availability and Summary of Documents for Incorporation by Reference

This document amends FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic service routes, and reporting points.

The Rule

This action amends 14 CFR part 71 by modifying J-107, J-515, and V-181; establishing T-407; and revoking the Humboldt reporting point. The planned decommissioning of the VOR portion of the Humboldt, MN, VORTAC has made this action necessary.

The amendment actions are described below.

J-107: J-107 extends between Los Angeles, CA, VORTAC and Sioux Narrows, ON, Canada, VOR/DME. The portion within Canada is excluded. This action removes the route segments between Dupree, SD, VOR/DME, and Sioux Narrows, ON, Canada, VOR/DME, and removes the exclusionary language. The resulting Jet Route now extends between Los Angeles, CA, VORTAC and Dupree, SD, VOR/DME.

J-515: J-515 extends between Fargo, ND, VOR/DME and the intersection of the Humboldt, MN, VORTAC 356° radial and United States/Canadian border; and between Whitehorse, YT, Canada and the Barrow, AK, VOR/DME. The airspace within Canada is excluded. This action removes the route segment between the Fargo, ND, VOR/DME and the intersection of the Humboldt, MN, VORTAC 356° radial and United States/Canadian border. As a result, the Jet Route now extends between Whitehorse, YT, Canada, VOR/DME and Barrow, AK, VOR/DME.

V-181: V-181 extends between Kirksville, MO, VORTAC, and the intersection of the Humboldt, MN, VORTAC, 356° radial and United States/Canadian border. This action removes the route segment between the Grand Forks, ND, VOR/DME and the intersection of the Humboldt, MN, VORTAC, 356° radial and United States/Canada border. As a result, the airway now extends between the Kirksville, MO, VORTAC, and the Grand Forks, ND, VOR/DME.

T-407: T-407 is a new RNAV route that extends between the Sioux Falls, SD, VORTAC and the ZOMTA, MN, WP, located at the United States/Canadian border. This T-route overlies the current Federal airway V-181 from Sioux Falls, SD, VORTAC to the United States/Canadian border. The existing ZOMTA fix, which is associated with the V-181 segment being removed in this rule, is being redefined in the FAA's aeronautical database as the ZOMTA waypoint (WP) at the same location. This “fix” to “WP” change is also reflected in the T-407 route description in this rule.

Humboldt: The Humboldt, MN, Domestic Low Altitude Reporting Point is revoked.

All of the navigational aid radials in the ATS route descriptions below are stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, does not have a significant economic impact on a substantial number of small entities under the criteria of the Regulatory Flexibility Act.

Environmental Review

The FAA has determined that this action of modifying Jet Routes J-107 and J-515, VOR modifying Federal airway V-181, and establishing RNAV route T-407, due to the planned decommissioning of the VOR portion of the Humboldt, MN, VORTAC navigational aid, qualifies for two categorical exclusions under the National Environmental Policy Act (42 U.S.C. 4321 et seq.) and its implementing regulations at 40 CFR part 1500, and in accordance with FAA Order 1050.1F, Environmental Impacts: Policies and Procedures. The first is categorical exclusion 5-6.5a, which categorically excludes from further environmental impact review rulemaking actions that designate or modify classes of airspace areas, airways, routes, and reporting points (see 14 CFR part 71, Designation of Class A, B, C, D, and E Airspace Areas; Air Traffic Service Routes; and Reporting Points). The second is categorical exclusion 5-6.5k, Publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 is amended to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-107 [Amended]

From Los Angeles, CA; INT Los Angeles 083° and Hector, CA, 226° radials; Hector; Boulder City, NV; Milford, UT; Rock Springs, WY; Muddy Mountain, WY; to Dupree, SD.

* * * * *

J-515 [Amended]

From Whitehorse, YT, Canada; Northway, AK; Fairbanks, AK; Bettles, AK; to Barrow, AK. The airspace within Canada is excluded.

* * * * *

Paragraph 6010(a) VOR Federal Airways.

* * * * *

V-181 [Amended]

From Kirksville, MO; Lamoni, IA; Omaha, IA; Norfolk, NE; Yankton, SD; Sioux Falls, SD; Watertown, SD; 34 miles, 24 miles, 34 MSL, Fargo, ND; to Grand Forks, ND.

* * * * *

Paragraph 6011 United States Area Navigation Routes.

* * * * *

T-407 Sioux Falls, SD (FSD) to ZOMTA, MN [New]
Sioux Falls, SD (FSD) | VORTAC | (Lat. 43°38′58.14″ N, long. 096°46′52.02″ W)
FFORT, SD | WP | (Lat. 44°58′47.45″ N, long. 097°08′30.36″ W)
Fargo, ND (FAR) | VOR/DME | (Lat. 46°45′12.01″ N, long. 096°51′04.75″ W)
Grand Forks, ND (GFK) | VOR/DME | (Lat. 47°57′17.40″ N, long. 097°11′07.33″ W)
WUBED, MN | FIX | (Lat. 48°43′30.50″ N, long. 097°07′40.81″ W)
ZOMTA, MN | WP | (Lat. 49°00′00.00″ N, long. 097°07′54.80″ W)

Paragraph 7001 Domestic Low Altitude Reporting Points.

* * * * *

Humboldt, MN [Removed]

* * * * *

Issued in Washington, DC, on September 27, 2021.
Michael R. Beckles,
Acting Manager, Rules and Regulations Group.

[FR Doc. 2021-21475 Filed 10-1-21; 8:45 am]

BILLING CODE 4910-13-P